DEPARTMENT OF COMMERCE

International Trade Administration

North American Free Trade Agreement (NAFTA), Article 1904 NAFTA Binational Panel Reviews; Decision of Panel

AGENCY: NAFTA Secretariat, United States Section, International Trade Administration, Department of Commerce.

ACTION: Notice of Decision of Panel.

SUMMARY: On April 29, 2014, the NAFTA Chapter 19 binational panel issued its decision affirming the Final Results of the 2006-2007 administrative review of the antidumping order issued by the U.S. Department of Commerce's International Trade Administration (ITA), with respect to Carbon and Certain Alloy Steel Wire Rod from Canada. Copies of the panel's decision are available from the U.S. Section of the NAFTA Secretariat.

FOR FURTHER INFORMATION CONTACT: Ellen M. Bohon, United States Secretary, NAFTA Secretariat, Suite 2061, 14th and Constitution Avenue, Washington, DC 20230, (202) 482-5438.

SUPPLEMENTARY INFORMATION: Chapter 19 of the North American Free Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter has been conducted in accordance with these Rules.

Panel Decision: On January 16, 2009 Complainants Ivaco Rolling Mills 2004 L.P. and Sivaco Ontario, a division of Sivaco Wire Group 2004 L.P. (“Ivaco”), filed a Request for Panel Review of the Final Results of the 2006-2007 administrative review of the antidumping order issued by the U.S. Department of Commerce's International Trade Administration (ITA), with respect to Carbon and Certain Alloy Steel Wire Rod from Canada.

In its Complaint, filed on February 1, 2009, Ivaco alleged that the ITA had committed two errors: (1) The ITA's decision that Ivaco had made sales to the United States and the home market at a single level of trade was unsupported by substantial evidence and otherwise not in accordance with law and (2) the ITA's decision to calculate Ivaco's overall weighted average dumping margin by setting negative individual dumping margins to zero is unsupported by substantial evidence and otherwise not in accordance with law.

For the reasons set forth in the panel's written decision, and on the basis of the administrative record, the applicable law, the written submissions of the ITA and Ivaco, and the panel hearing held in Washington, DC on September 6, 2012, the panel upheld in its decision the Final Results of the administrative review. Copies of the panel's decision are available from the U.S. Section of the NAFTA Secretariat.

Dated: May 2, 2014.
Ellen M. Bohon,
U.S. Secretary, NAFTA Secretariat.

[FR Doc. 2014-10559 Filed 5-7-14; 8:45 am]

BILLING CODE 3510-DR-P